DEPARTMENT OF COMMERCE

International Trade Administration

[A-570-836]

Glycine From the People's Republic of China: Final Results of Antidumping Duty Administrative Review; 2011-2012

AGENCY: Import Administration, International Trade Administration, Department of Commerce.

DATES: Effective Date: April 8, 2013.

SUMMARY: On December 6, 2012, the Department of Commerce (the Department) published the preliminary results of the administrative review of the antidumping duty order on glycine from the People's Republic of China (PRC) ¹ in the Federal Register. We gave interested parties an opportunity to comment on the preliminary results. Based upon our analysis of the comments received by the parties we have not made any changes to the antidumping duty rate assigned to the PRC-wide entity, which includes the sole company subject to this review, Baoding Mantong Fine Chemistry Co. Ltd. (Baoding Mantong), and are rescinding the review with respect to companies for which this review was initiated but had not previously received a separate rate status, for the final results.²

¹ See Glycine From the People's Republic of China: Preliminary Results of Antidumping Duty Administrative Review and Preliminary Partial Rescission of Antidumping Duty Administrative Review; 2011-2012, 77 FR 72817 (December 6, 2012) (Preliminary Results), and accompanying Decision Memorandum for the Preliminary Results of Antidumping Duty Administrative Review and Preliminary Partial Rescission of Antidumping Duty Administrative Review: Glycine From the People's Republic of China” from Christian Marsh, Deputy Assistant Secretary for Antidumping and Countervailing Duty Operations, to Ronald K. Lorentzen, Acting Assistant Secretary for Import Administration, dated December 6, 2012 (Preliminary Decision Memorandum).

² We preliminarily rescinded this review with respect to 25 other companies after GEO Specialty Chemicals, Inc. (GEO) submitted a timely request to withdraw its request for review of these companies. See Preliminary Results, 77 FR at 72817.

FOR FURTHER INFORMATION CONTACT: Brian Davis or Ericka Ukrow, AD/CVD Operations, Office 7, Import Administration, International Trade Administration, U.S. Department of Commerce, 14th Street and Constitution Avenue NW., Washington, DC 20230; telephone: (202) 482-7924 or (202) 482-0405, respectively.

SUPPLEMENTARY INFORMATION:

Period of Review

The period of review is March 1, 2011, through February 29, 2012.

Scope of the Order

The product covered by the antidumping duty order is glycine, which is a free-flowing crystalline material, like salt or sugar.³ The subject merchandise is currently classifiable under Harmonized Tariff Schedule of the United States (HTSUS) subheading: 2922.49.4020. The HTSUS subheading is provided for convenience and customs purposes only; the written product description of the scope of the order is dispositive.⁴

³ See Preliminary Decision Memorandum for a complete description of the scope of the order.

⁴ See Antidumping Duty Order: Glycine From the People's Republic of China, 60 FR 16116 (March 29, 1995).

Background

On December 6, 2012, the Department published the Preliminary Results in the Federal Register. The Department provided interested parties with the opportunity to comment on the Preliminary Results. On January 7, 2013, Glycine & More, Inc. (Glycine & More), an affiliate of Baoding Mantong and U.S. importer of glycine, timely submitted a case brief commenting on our Preliminary Results. Domestic interested party GEO timely submitted rebuttal comments on January 14, 2013. We have analyzed the comments received and made no revisions to the preliminary antidumping duty rate assigned to the PRC-wide entity, including Baoding Mantong.

Analysis of Comments Received

All issues raised in the case and rebuttal briefs submitted by parties in this review are addressed in the Memorandum to Paul Piquado, Assistant Secretary for Import Administration, from Edward C. Yang, Senior Director China/Non-Market Economy Unit, entitled, “Issues and Decision Memorandum for the Final Results in the Antidumping Duty Administrative Review of Glycine From the People's Republic of China” (Final Decision Memorandum), which is dated concurrently with, and adopted by, this notice. A list of the issues which parties raised, and to which we respond in the Final Decision Memorandum is attached to this notice as an Appendix. The Final Decision Memorandum is a public document and is on file electronically via Import Administration's Antidumping and Countervailing Duty Centralized Electronic Service System (IA ACCESS). Access to IA ACCESS is available to registered users at http://iaaccess.trade.gov and in the Central Records Unit (CRU), Room 7046 of the main Department of Commerce building. In addition, a complete version of the Final Decision Memorandum can be accessed directly on the internet at http://www.trade.gov/ia/. The signed Final Decision Memorandum and the electronic versions of the Final Decision Memorandum are identical in content.

Rescission of Review in Part and PRC-Wide Entity

Pursuant to 19 CFR 351.213(d)(1), the Secretary will rescind an administrative review, in whole or in part, if a party that requested the review withdraws the request within 90 days of the date of publication of the initiation notice of the requested review. As stated in the Preliminary Results, for 25 of the 26 companies for which the Department initiated this administrative review, GEO was the only party that requested the review. On July 30, 2012, GEO timely withdrew its review requests for all 26 companies. Therefore, with the exception of Baoding Mantong, which requested its own review and is the sole mandatory respondent in this proceeding, the Department preliminary rescinded the review for all other companies named in the Initiation Notice.⁵

⁵ See Appendix II for a list of these companies.

For these final results, the Department is rescinding the review with respect to companies on which this review was initiated but had not previously received a separate rate status. As described above, GEO withdrew its review request covering these companies. While the review request was withdrawn in a timely manner, these companies have not previously received separate rate status and, as such, remain part of the PRC-wide entity. The Department did not rescind this review at the time of the preliminary results for those companies that had not timely withdrawn their request for review nor established their eligibility for a separate rate in this review, i.e., Baoding Mantong, and are considered part of the PRC-wide entity which is under review.

Changes Since the Preliminary Results

Based on a review of the record and comments received from parties regarding our Preliminary Results, we have made no changes the antidumping duty rate assigned to the PRC-wide entity, including Baoding Mantong, in these final results of review.

Final Results of the Review

The Department has determined that the following weighted-average dumping margin exists for the period March 1, 2011, through February 29, 2012:

Exporter | Margin
PRC-wide entity (including Baoding Mantong Fine Chemistry Co., Ltd.) | 453.79%

Assessment Rates

Consistent with these final results, and pursuant to section 751(a)(2)(B) of the Tariff Act of 1930, as amended (the Act), and 19 CFR 351.212(b)(1), the Department will direct U.S. Customs and Border Protection (CBP) to assess antidumping duties on all appropriate entries. The Department will issue appropriate assessment instructions to CBP 15 days after the date of publication of the final results of this review. We will instruct CBP to liquidate entries of subject merchandise exported by the PRC-wide entity at the ad valorem rate of 453.79 percent of entered value.

The Department previously announced a refinement to its assessment practice in non-market economy (NME) cases.⁶ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁷

⁶ See Non-Market Economy Antidumping Proceedings: Assessment of Antidumping Duties, 76 FR 65694 (October 24, 2011).

⁷ Id. at 65694.

Cash-Deposit Requirements

The following cash-deposit requirements will be effective upon publication of these final results of review for all shipments of subject merchandise entered, or withdrawn from warehouse, for consumption on or after the publication date, as provided by section 751(a)(2)(C) of the Act: (1) For the PRC-wide entity (including Baoding Mantong), the cash deposit rate will be the rate established in the final results of this review; (2) for previously investigated or reviewed PRC and non-PRC exporters not listed above that received a separate rate in a prior segment of this proceeding, the cash deposit rate will continue to be the exporter-specific rate; (3) for all PRC exporters of subject merchandise which have not been found to be entitled to a separate rate, the cash deposit rate will be that for the PRC-wide entity; and (4) for all non-PRC exporters of subject merchandise which have not received their own rate, the cash deposit rate will be the rate applicable to the PRC exporters that supplied that non-PRC exporter. These cash deposit requirements, when imposed, shall remain in effect until further notice.

Notification to Importers

This notice serves as a final reminder to importers of their responsibility under 19 CFR 351.402(f)(2) to file a certificate regarding the reimbursement of antidumping duties prior to liquidation of the relevant entries during this period of review. Failure to comply with this requirement could result in the Secretary's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: April 1, 2013.
Paul Piquado,
Assistant Secretary for Import Administration.

Appendix I

Comment 1: Baoding Mantong's Untimely Withdrawal of Review Request and Rescission of the Administrative Review with Respect to Baoding Mantong

Comment 2: The Department's Selection of the Adverse Facts Available Margin for Baoding Mantong

Appendix II

Companies Without Previous Separate Rates Status for Which the Review Request Was Withdrawn

1. A&A Pharmachem Inc.

2. Advance Exports

3. AICO Laboratories India Ltd.

4. Avid Organics Pvt. Ltd.

5. Chiyuen International Trading Ltd.

6. E-Heng Import and Export Co., Ltd.

7. General Ingredient Inc.

8. Hebei Donghua Chemical General Corporation

9. Hebei Donghua Jiheng Fine Chemical Co., Ltd.

10. Jiangsu Dongchang Chemical

11. Jizhou City Huayang Chemical Co., Ltd.

12. Kissner Milling Co. Ltd.

13. Nantong Dongchang Chemical Industrial Co. Ltd.

14. Ningbo Create-Bio Engineering Co. Ltd.

15. Nutracare International

16. Paras Intermediates Pvt. Ltd.

17. Qingdao Samin Chemical Co., Ltd.

18. Ravi Industries

19. Salvi Chemical Industries

20. Shanghai Waseta International Trading

21. Showa Denko K.K.

22. Tianjin Tiancheng Pharmaceutical Company

23. Wisent Pharma Inc.

24. XPAC Technologies Inc.

25. Yuki Gosei Kogyo Co., Ltd.

[FR Doc. 2013-08108 Filed 4-5-13; 8:45 am]

BILLING CODE 3510-DS-P